DEPARTMENT OF JUSTICE

Federal Bureau of Investigation

Flexible Deployment Assistance Guide

AGENCY: Federal Bureau of Investigation, DOJ.

ACTION: Notice of availability.

SUMMARY: The Flexible Deployment Assistance Guide and Template may be downloaded from the FBI's Web site at http://www.fbi.gov/programs/calea/flexible.htm. The purpose of the Communications Assistance for Law Enforcement Act (CALEA) Flexible Deployment Assistance Guide (Guide) is to assist telecommunications carriers in meeting certain requirements of CALEA. The Guide requests telecommunications carriers to voluntarily submit certain information to the FBI, and explains under what circumstances, based on a review of that information, the FBI might support a carrier's request to the Federal Communications Commission (FCC) for an extension under sec. 107(c) of CALEA. The Guide also provides some general background information regarding CALEA, and discusses lawfully authorized electronic surveillance, technical solutions being developed by the industry, and cost reimbursement provisions of CALEA.

As explained in the Guide, telecommunications carriers are under an obligation to meet certain CALEA assistance capability requirements by the June 30, 2000, and September 30, 2001, deadlines specified by the FCC. The “Flexible Deployment Plan” is the FBI's proposed method for evaluating the situations of those carriers proposing to request the FCC for an extension of a deadline of compliance with CALEA's assistance capability requirements. Carriers choosing to submit information in response to the Guide are strongly encouraged to do so on or before March 31, 2000. CIS will send receipt notification letters to all carriers submitting information. (This information collection has been approved by the Office of Management and Budget under control number 1110-0030).

DATES: Telecommunications carriers are stongly encouraged to file their Flexible Deployment Assistance Guide Templates in Microsoft Excel format by March 31, 2000.

ADDRESSES: All completed Flexible Deployment Assistance Guide Templates should be sent to: CALEA Implementation Section, Attention: Flexible Deployment Assistance Guide, 14800 Conference Center Drive, Suite 300, Chantilly, VA 20151-0450.

FOR FURTHER INFORMATION CONTACT: Flexible Deployment Assistance Guide Help Desk, 800-551-0336.

Authority: 47 U.S.C. 1001-1010.

Dated: February 11, 2000.
H. Michael Warren,
Senior Project Manager/Chief, Federal Bureau of Investigation, Department of Justice.

[FR Doc. 00-3654 Filed 2-15-00; 8:45 am]

BILLING CODE 4410-02-M